DEPARTMENT OF ENERGY

Federal Energy Regulatory Commission

[Project No. 1894-000—South Carolina Parr Hydroelectric Project]

South Carolina Electric & Gas Company; Notice of Proposed Restricted Service List for a Programmatic Agreement

Rule 2010 of the Federal Energy Regulatory Commission's (Commission) Rules of Practice and Procedure, 18 CFR 385.2010, provides that, to eliminate unnecessary expense or improve administrative efficiency, the Secretary may establish a restricted service list for a particular phase or issue in a proceeding. The restricted service list should contain the names of persons on the service list who, in the judgment of the decisional authority establishing the list, are active participants with respect to the phase or issue in the proceeding for which the list is established.

The Commission staff is consulting with the South Carolina State Historic Preservation Officer (South Carolina SHPO) and the Advisory Council on Historic Preservation (Advisory Council) pursuant to the Advisory Council's regulations, 36 CFR part 800, implementing section 106 of the National Historic Preservation Act, as amended, (16 U.S.C. 470 f), to prepare a Programmatic Agreement for managing properties included in, or eligible for inclusion in, the National Register of Historic Places at the Parr Hydroelectric Project.

The Programmatic Agreement, when executed by the Commission, the South Carolina SHPO, and the Advisory Council, would satisfy the Commission's section 106 responsibilities for all individual undertakings carried out in accordance with the license until the license expires or is terminated (36 CFR 800.13[e]). The Commission's responsibilities pursuant to section 106 for the project would be fulfilled through the Programmatic Agreement, which the Commission staff proposes to draft in consultation with certain parties listed below.

South Carolina Electric & Gas Company, as licensee for the Parr Hydroelectric Project, is invited to participate in consultations to develop the Programmatic Agreement and to sign as a concurring party to the Programmatic Agreement. For purposes of commenting on the Programmatic Agreement, we propose to restrict the service list for Project No. 1894-000 as follows:

John Eddins, Advisory Council on Historic Preservation, 401 F Street NW., Suite 308, Washington, DC 20001-2637.

Elizabeth M. Johnson, Deputy SHPO, South Carolina Department of Archives & History, 8301 Parklane Road, Columbia, SC 29223-4905

Emily Dale, Archaeologist, South Carolina Department of Archives & History, 8301 Parklane Road, Columbia, SC 29223-4905

William R. Argentieri, P.E., Manager, South Carolina Electric & Gas Company, 220 Operation Way, Mail Code A221, Cayce, SC 29033-3701

James Landreth, Vice President, Fossil & Hydro Operations, South Carolina Electric & Gas Company, 220 Operation Way, Mail Code A221, Cayce, SC 29033-3701

J. Hagood Hamilton, Jr., General Counsel, South Carolina Electric & Gas Company, 220 Operation Way, Mail Code C222, Cayce, SC 29033-3701

Michael Harmon, U.S. Forest Service, Sumter National Forest, 20 Work Center Road, Whitmire, SC 29178

Robert Morgan, U.S. Forest Service, Sumter National Forest, 2967 Steed Creek Road, Huger, SC 29450

Lisa C. Baker, Acting THPO, United Keetoowah Band of Cherokee Indians in Oklahoma, P.O. Box 746, Tahlequah, OK 74465

Any person on the official service list for the above-captioned proceedings may request inclusion on the restricted service list, or may request that a restricted service list not be established, by filing a motion to that effect within 15 days of this notice date. A copy of any such motion must be filed with the Secretary of the Commission (888 First Street NE., Washington, DC 20426) and must be served on each person whose name appears on the official service list. If no such motions are filed, the restricted service list will be effective at the end of the 15 day period. Otherwise, a further notice will be issued ruling on the motion.

Dated: November 18, 2014.
Kimberly D. Bose,
Secretary.

[FR Doc. 2014-27810 Filed 11-24-14; 8:45 am]

BILLING CODE 6717-01-P